NATIONAL AERONAUTICS AND SPACE ADMINISTRATION

[Notice (00-030)]

Agency Information Collection: Submission for OMB Review, Comment Request

AGENCY: National Aeronautics and Space Administration (NASA).

ACTION: Notice of Agency Report Forms Under OMB Review.

SUMMARY: The National Aeronautics and Space Administration has submitted to the Office of Management and Budget (OMB) the following proposal for the collection of information under the provisions of the Paperwork Reduction Act (44 U.S.C. Chapter 35).

DATES: Comments on this proposal should be received on or before April 27, 2000.

ADDRESSES: All comments should be addressed to Mr. Phillip Smith, Code BFZ, National Aeronautics and Space Administration, Washington, DC 20546.

FOR FURTHER INFORMATION CONTACT: Ms. Carmela Simonson, Office of the Chief Information Officer, (202) 358-1223.

Reports: None.

Title: NASA Contractor Financial Management Reports.

OMB Number: 2700-0003.

Type of Review: Extension.

Need and Uses: The NASA Contractor Financial Management Reporting System is the basic financial medium for contractor reporting of estimated and incurred costs, providing essential data for projecting costs and hours to ensure that contractor performance is realistically planned and supported by dollar and labor resources. The data provided by these reports is an integral part of the Agency's accrual accounting and cost-based budgeting systems required under 31 U.S.C. 3513.

Affected Public: Business or other for-profit, Not-for-profit institutions.

Estimated Number of Respondents: 850.

Responses Per Respondent: 12.

Estimated Annual Responses: 10,200.

Estimated Hours Per Request: 9 hrs.

Estimated Annual Burden Hours: 91,500.

Frequency of Report: Quarterly/monthly.

David B. Nelson,
Deputy Chief Information Officer, Office of the Administrator.

[FR Doc. 00-7632 Filed 3-27-00; 8:45 am]

BILLING CODE 7510-01-P